DEPARTMENT OF LABOR

Employment and Training Administration

[TA-W-41,251]

American Components, Inc., Dandridge, TN; Notice of Termination of Investigation

Pursuant to section 221 of the Trade Act of 1974, an investigation was initiated on April 8, 2002, in response to a petition filed on behalf of all workers at American Component, Inc., Dandridge, Tennessee.

The workers' petition regarding the investigation is invalid. Two of the three petitioners neglected to sign the petition. Consequently, further investigation in this cannot progress, and the investigation has been terminated.

Signed at Washington, DC, this 29th day of April 2002.
Linda G. Poole,
Certifying Officer, Division of Trade Adjustment Assistance.

[FR Doc. 02-12388 Filed 5-16-02; 8:45 am]

BILLING CODE 4510-30-M